FEDERAL ELECTION COMMISSION

[Notice 2017-04]

Filing Dates for the Kansas Special Election in the 4th Congressional District

AGENCY: Federal Election Commission.

ACTION: Notice of filing dates for special election.

SUMMARY: Kansas has scheduled a Special General Election on April 11, 2017, to fill the U.S. House of Representatives seat in the 4th Congressional District vacated by Representative Mike Pompeo.

Committees required to file reports in connection with the Special General Election on April 11, 2017, shall file a 12-day Pre-General Report, and a 30-day Post-General Report.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

All principal campaign committees of candidates who participate in the Kansas Special General Election shall file a 12-day Pre-General Report on March 30, 2017, and a 30-day Post-General Report on May 11, 2017. (See charts below for the closing date for each report.)

Note that these reports are in addition to the campaign committee's regular quarterly filings. (See charts below for the closing date for each report).

Unauthorized Committees (PACs and Party Committees)

Political committees filing on a semi-annual basis in 2017 are subject to special election reporting if they make previously undisclosed contributions or expenditures in connection with the Kansas Special General Election by the close of books for the applicable report(s). (See charts below for the closing date for each report.)

Committees filing monthly that make contributions or expenditures in connection with the Kansas Special General Election will continue to file according to the monthly reporting schedule.

Additional disclosure information in connection with the Kansas Special Election may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $17,900 during the special election reporting periods. (See charts below for closing date of each period.) 11 CFR 104.22(a)(5)(v), (b).

Calendar of Reporting Dates for Kansas Special General Election
Report | Close of books ¹ | Reg./cert. and overnight mailing deadline | Filing deadline
Quarterly Filing Committees Involved in the Special General (04/11/17) Must File:
Pre-General | 03/22/17 | 03/27/17 | 03/30/17
April Quarterly | 03/31/17 | 04/15/17 | ² 04/15/17
Post-General | 05/01/17 | 05/11/17 | 05/11/17
July Quarterly | 06/30/17 | 07/15/17 | ² 07/15/17
Semi-Annual Filing Committees Involved in the Special General (04/11/17) Must File:
Pre-General | 03/22/17 | 03/27/17 | 03/30/17
Post-General | 05/01/17 | 05/11/17 | 05/11/17
Mid-Year | 06/30/17 | 07/31/17 | 07/31/17
¹ These dates indicate the end of the reporting period. A reporting period always begins the day after the closing date of the last report filed. If the committee is new and has not previously filed a report, the first report must cover all activity that occurred before the committee registered as a political committee with the Commission up through the close of books for the first report due.
² Notice that this filing deadline falls on a weekend or federal holiday. Filing deadlines are not extended when they fall on nonworking days. Accordingly, reports filed by methods other than registered, certified or overnight mail must be received by close of business on the last business day before the deadline.

Dated: February 2, 2017.
On behalf of the Commission.
Steven T. Walther,
Chairman, Federal Election Commission.

[FR Doc. 2017-03092 Filed 2-15-17; 8:45 am]

BILLING CODE 6715-01-P